FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201385.

Agreement Name: ONE/ELJSA Slot Exchange Agreement.

Parties: Ocean Network Express Pte. Ltd. and Evergreen Line Joint Service Agreement

Filing Party: Joshua Stein, Cozen O'Connor.

Synopsis: The Agreement authorizes the parties to exchange space on their HTW and FP1 services in the trade between ports in Japan, Taiwan and The People's Republic of China on the one hand, and U.S. ports in the Pacific coast range on the other hand.

Proposed Effective Date: 6/13/2022.

Location: https://www2.fmc.gov/FMC.Agreements.Web/Public/AgreementHistory/62502.

Dated: May 6, 2022.
William Cody,
Secretary.

[FR Doc. 2022-10100 Filed 5-10-22; 8:45 am]

BILLING CODE 6730-02-P